DEPARTMENT OF COMMERCE

Census Bureau

2018 End-to-End Census Test—Address Canvassing Operation

AGENCY: Census Bureau, Commerce.

ACTION: Notice, comment request.

SUMMARY: The Census Bureau publishes this notice to announce a change in the expected burden for the 2018 End-to-End Census Test—Address Canvassing Operation. The Census Bureau invites public comment on the increase in burden, as described below.

Agency: U.S. Census Bureau.

Title: 2018 End-to-End Census Test—Address Canvassing Operation.

OMB Control Number: 0607-0997.

Type of Request: New Collection.

Number of Respondents: 85,093.

Average Hours per Response: 5 minutes.

Burden Hours: 7,091.

Needs and Uses: The Address Canvassing operation is the first operation in the 2018 End-to-End Census Test, with field activity beginning in the summer of 2017. The purpose of the Address Canvassing operation is (1) to deliver a complete and accurate address list and spatial database for enumeration and tabulation, and (2) to determine the type and address characteristics for each living quarter. The Address Canvassing operation consists of two major components: In-Office Address Canvassing and In-Field Address Canvassing. Only the latter component involves collection of information from residents at their living quarters.

The following objectives are crucial to a successful Address Canvassing operation:

• Test the listing and mapping capabilities required by In-Field Address Canvassing.

• Validate the creation of In-Field Address Canvassing workload by In-Office Address Canvassing.

• Conduct a listing quality control operation during In-Field Address Canvassing.

The results of this test will inform the Census Bureau's final preparations for the Address Canvassing Operation in advance of the 2020 Census.

The number of housing units with respondent burden in the original OMB package was calculated based on the national estimate of 25 percent of addresses in the Self-Response areas needing In-Field Address Canvassing. This estimate was based on our original approach to In-Office Address Canvassing Operation, which included two phases: Interactive Review and Active Block Resolution. In the Interactive Review phase staff make an initial assessment of the stability of the blocks under review, determining whether a block is “stable,” or undergoing minor changes or no changes at all, or “unstable,” which indicates that there are significant changes within the block. In the Active Block Resolution phase, which we are no longer pursuing for the 2020 Census, staff would have done a second, “deep dive” into the “unstable” blocks to attempt to resolve them by accurately identifying the changes taking place. The Census Bureau discontinued this second phase because we were experiencing significant issues with productivity and quality control in the Active Block Resolution phase. The result of this decision is that our estimated national workload for In-Field Address Canvassing has increased from 25 percent to 30 percent. Prior to the suspension of Active Block Resolution, some of the blocks in the three test sites were removed from In-Field Address Canvassing workload as result of this phase of the In-Office Address Canvassing operation. Therefore, in order to ensure that the operations implemented in the 2018 End-to-End Census Test are consistent with the operations we plan to execute in the 2020 Census, the Census Bureau determined it was appropriate to add the blocks originally resolved during Active Block Resolution back into the in-field workload for this test.

The original estimate of burden was calculated to be:

Estimated Number of Respondents: 43,965 households.

Estimated Time per Response: 5 minutes.

Estimated Total Annual Burden Hours: 3,664 hours.

Test site | Estimated number of respondents | Estimated time per response (minutes) | Total burden hours
Pierce County, Washington | 20,818 | 5 | 1,735
Providence County, Rhode Island | 17,526 | 5 | 1,461
Bluefield-Beckley-Oak Hill, West Virginia Area | 5,621 | 5 | 468
Totals | 43,965 |  | 3,664

The new burden estimate is calculated to be:

Estimated Number of Respondents: 85,093 households.

Estimated Time per Response: 5 minutes.

Estimated Total Annual Burden Hours: 7,091 hours.

Test site | Estimated number of respondents | Estimated time per response (minutes) | Total burden hours
Pierce County, Washington | 43,806 | 5 | 3,651
Providence County, Rhode Island | 25,409 | 5 | 2,117
Bluefield-Beckley-Oak Hill, West Virginia Area | 15,878 | 5 | 1,323
Totals | 85,093 |  | 7,091

Written comments and recommendations on this change in burden should be sent within 30 days of publication of this notice to OIRA_Submission@omb.eop.gov or fax to (202) 395-5806.

Sheleen Dumas,
Departmental PRA Lead, Office of the Chief Information Officer.

[FR Doc. 2017-16875 Filed 8-9-17; 8:45 am]

BILLING CODE 3510-07-P